DEPARTMENT OF COMMERCE

International Trade Administration

[A-583-828]

Stainless Steel Wire Rod From Taiwan: Notice of Rescission of Antidumping Duty Administrative Review

AGENCY: Import Administration, International Trade Administration, Department of Commerce.

DATES: Effective Date: February 23, 2005.

FOR FURTHER INFORMATION CONTACT: Malcolm A. Burke or Howard Smith at (202) 482-3584 or (202) 482-5193, respectively; AD/CVD Operations, Office 4, Import Administration, International Trade Administration, U.S. Department of Commerce, 14th Street and Constitution Avenue, NW., Washington, DC 20230.

SUPPLEMENTARY INFORMATION:

Background

On September 30, 2004, the Department of Commerce (the Department) received a timely request from Carpenter Technology Corporation (Carpenter), the sole petitioner in the instant proceeding, to conduct an administrative review of sales made by Walsin Lihwa Corporation (Walsin) and any of its affiliated parties. In that request, Carpenter specifically identified Outokumpu Stainless (Outokumpu) as an affiliate of Walsin. On October 22, 2004, the Department initiated an administrative review of the antidumping duty order on stainless steel wire rod from Taiwan for the period September 1, 2003, through August 31, 2004, and published a notice in the Federal Register. See Initiation of Antidumping and Countervailing Duty Administrative Reviews, 69 FR 62022 (October 22, 2004). On November 4, 2004, Carpenter informed the Department that in that mis-identified Outokumpu on November 12, 2004. On December 23, 2004, Carpenter withdrew its request for an administrative review of Walsin.

Rescission of Review

Pursuant to 19 CFR 351.213(d)(1), the Department will rescind an administrative review if a party that requested the review withdraws its request within 90 days of the publication date of the notice of initiation thereof. Because Carpenter withdrew its review request within the 90-day time limit, the Department is rescinding this review and will issue appropriate assessment instructions directly to U.S. Customs and Border Protection within 15 days of publication of this notice.

Notification to Importers

This notice serves as a reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of doubled antidumping duties.

Notification to Interested Parties

This notice serves as a reminder to parties subject to administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

This notice is published in accordance with 19 CFR 351.213(d)(4) and section 777(i)(1) of the Tariff Act of 1930, as amended.

Dated: February 18, 2005.
Gary Taverman,
Acting Deputy Assistant Secretary for Import Administration.

[FR Doc. 05-3835 Filed 2-25-05; 8:45 am]

BILLING CODE 3510-DS-M